DEPARTMENT OF COMMERCE

National Oceanic and Atmospheric Administration

RIN 0648-XF092

Pacific Fishery Management Council; Public Meeting

AGENCY: National Marine Fisheries Service (NMFS), National Oceanic and Atmospheric Administration (NOAA), Commerce.

ACTION: Notice of a public meeting.

SUMMARY: The Pacific Fishery Management Council's (Pacific Council) Groundfish Management Team (GMT) will hold a week-long work session that is open to the public.

DATES: The GMT meeting will begin at 1 p.m. on Monday, January 9, 2017, and end at close of business on Friday, January 13, 2017, to view the agenda see SUPPLEMENTARY INFORMATION.

ADDRESSES: The meeting will be held at the Pacific Council, Large Conference Room, 7700 NE Ambassador Place, Suite 101, Portland, Oregon 97220-1384.

FOR FURTHER INFORMATION CONTACT: Ms. Kelly Ames, Pacific Council, 503-820-2426.

SUPPLEMENTARY INFORMATION:

Agenda

The primary purpose of the GMT working meeting is to prepare for the 2017 Council meetings, including the development of harvest specifications and management measures for 2019-2020. Specific agenda topics include revisions to the nearshore and non-nearshore projection models; review of the sablefish and lingcod discard mortality rates; and review of the latest West Coast Groundfish Observer Program data. A detailed agenda will be available on the Council's Web site prior to the meeting. The GMT may also address other assignments relating to groundfish management. No management actions will be decided by the GMT. The GMT's task will be to develop recommendations for consideration by the Pacific Council at its meetings in 2017.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt, at 503-820-2425 at least ten business days prior to the meeting.

Authority: 16 U.S.C. 1801 et seq.

Dated: December 16, 2016.
Tracey L. Thompson,
Acting Director, Office of Sustainable Fisheries, National Marine Fisheries Service.

[FR Doc. 2016-30722 Filed 12-21-16; 8:45 am]

BILLING CODE 3510-22-P